DEPARTMENT OF HOMELAND SECURITY

Coast Guard

33 CFR Part 165

[Docket Number USCG-2026-0134]

RIN 1625-AA00

Safety Zone; Saginaw River, Bay City, MI

AGENCY: Coast Guard, Department of Homeland Security.

ACTION: Temporary final rule.

SUMMARY: The Coast Guard is establishing a temporary safety zone for navigable waters on the Saginaw River during the upcoming winter months. This zone is needed to cover navigable waters of the Saginaw River within 400 yards upriver and 600 yards downriver of the Lafayette Bridge and is necessary to protect waterway users, recreational vehicles, and mariners from hazards associated with construction of the Lafayette Bridge. Entry of persons on foot or recreational vehicles into this zone is prohibited unless specifically authorized by the Captain of the Port Sector Detroit (COTP).

DATES: This rule is effective from 8 a.m. on February 7, 2026, until 8 a.m. on April 1, 2026.

ADDRESSES: To view available documents go to https://www.regulations.gov and search for USCG-2026-0134.

FOR FURTHER INFORMATION CONTACT: If you have questions on this temporary rule, call or email Tracy Girard, Prevention Department, Sector Detroit, Coast Guard; telephone 313-568-9564, or email Tracy.M.Girard@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background and Authority

During winter months, the Saginaw River becomes a popular area for recreational users, particularly for ice fishing, snowmobiling, and other activities conducted on the ice. At the same time, critical bridge construction and maintenance projects often take place during this period, requiring the use of heavy equipment and tug/barges. Specifically, construction crews are working to construct the Lafayette Bridge over the Saginaw River. This construction presents hazards to recreational users and the public at large, as tug and barge traffic will be breaking the ice in the area surrounding the Lafayette Bridge while cranes and heavy equipment work in the area. This activity, especially the frequent icebreaking operations, present hazards to recreational users, particularly those ice fishing, snowmobiling, or conducting other activities on the ice.

Therefore, the COTP is issuing this rule under the authority in 46 U.S.C. 70034, which is needed to protect personnel and the marine environment in the navigable waters within the safety zone.

The Coast Guard is issuing this rule without prior notice and comment. As is authorized by 5 U.S.C. 553(b)(B), the Coast Guard finds that good cause exists for not publishing a notice of proposed rulemaking (NPRM) with respect to this rule because it is impracticable. The final decision to implement this safety zone was reached only recently, following comprehensive consultations with state and local law enforcement authorities to find an alternative route around the safety zone, and we must establish this safety zone by February 7, 2026, to protect personnel and the marine environment. Therefore, we do not have enough time to solicit and respond to comments.

For the same reason, the Coast Guard finds that under 5 U.S.C. 553(d)(3), good cause exists for making this rule effective less than 30 days after publication in the Federal Register.

III. Discussion of the Rule

This rule is effective from 8 a.m. on February 7, 2026 until 8 a.m. on April 1, 2026. The safety zone covers all U.S. navigable waters of the Saginaw River within 400 yards upriver and 600 yards downriver of the Lafayette Bridge, along the main shipping channel. No recreational vehicles or persons on foot are permitted to enter the safety zone without obtaining permission from the COTP or their designated representative.

IV. Regulatory Analyses

We developed this rule after considering numerous statutes and Executive orders related to rulemaking. Below we summarize our analyses based on a number of these statutes and Executive orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is a safety zone. It is categorically excluded from further review under paragraph L60(a) of Appendix A, Table 1 of DHS Instruction Manual 023-01-001-01, Rev. 1. A Record of Environmental Consideration supporting this determination is available in the docket.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; DHS Delegation No. 00170.1, Revision No. 01.4.

2. Add § 165.T09-0134 to read as follows:

§ 165.T09-0134 Safety Zone; Saginaw River, Bay City, MI.

(a) Location. U.S. navigable waters of the Saginaw River, from surface to bottom, within 400 yards upriver and 600 yards downriver of the Lafayette Bridge. Specifically, all waters of the Saginaw River, encompassed by a line connecting the following points beginning at 43°35′4″ N, 083°53′56.5″ W thence to, 43°35′2.6″ N, 083°53′49.1″ W thence to, 43°34′37.3″ N 083°53′59.9″ W, thence to 43°34′38.5″ N, 083°54′8″ W and along the shoreline back to the beginning point. These coordinates are based on the North American Datum 83 (NAD 83).

(b) Definitions. As used in this section, designated representative means a Coast Guard Patrol Commander, including a Coast Guard coxswain, petty officer, or other officer operating a Coast Guard vessel and a Federal, State, and local officer designated by or assisting the Captain of the Port Sector Detroit (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative on VHF-FM channel 16. Those in the safety zone must comply with all lawful orders or directions given to them by the COTP or the COTP's designated representative.

(d) Enforcement period. This section is effective from 8 a.m. on February 7, 2026, until 8 a.m. on April 1, 2026.

Dated: February 2, 2026.
Richard P. Armstrong,
Captain, U.S. Coast Guard, Captain of the Port Detroit.

[FR Doc. 2026-02340 Filed 2-5-26; 8:45 am]

BILLING CODE 9110-04-P